DEPARTMENT OF COMMERCE

International Trade Administration

[C-533-825]

Polyethylene Terephthalate Film, Sheet, and Strip From India: Final Results of Countervailing Duty Administrative Review; 2014

AGENCY: Enforcement and Compliance, International Trade Administration, Department of Commerce.

SUMMARY: On August 3, 2016, the Department published the preliminary results of the administrative review of the countervailing duty order on polyethylene terephthalate film, sheet, and strip (PET film) from India. This review covers two companies: Jindal Poly Films Limited (Jindal), and SRF Limited. The period of review (POR) is January 1, 2014, through December 31, 2014. Based on an analysis of the comments received, the Department has made changes to the subsidy rate determined for Jindal. The final subsidy rates are listed in the “Final Results of Administrative Review” section below.

DATES: Effective December 9, 2016.

FOR FURTHER INFORMATION CONTACT: Elfi Blum, AD/CVD Operations, Office VII, Enforcement and Compliance, U.S. Department of Commerce, 1401 Constitution Avenue NW., Washington, DC 20230; telephone: (202) 482-0197.

Scope of the Order

For the purposes of the order, the products covered are all gauges of raw, pretreated, or primed polyethylene terephthalate film, sheet and strip, whether extruded or coextruded. Excluded are metallized films and other finished films that have had at least one of their surfaces modified by the application of a performance-enhancing resinous or inorganic layer of more than 0.00001 inches thick. Imports of PET film are classifiable in the Harmonized Tariff Schedule of the United States (HTSUS) under item number 3920.62.00.90. HTSUS subheadings are provided for convenience and customs purposes. The written description of the scope of the order is dispositive.

Analysis of Comments Received

The issues raised by Petitioners ¹ and Jindal in their case briefs are addressed in the Issues and Decision Memorandum.² Neither party submitted rebuttal briefs. The issues are identified in the Appendix to this notice. The Issues and Decision Memorandum is a public document and is on file electronically via Enforcement and Compliance's Antidumping and Countervailing Duty Centralized Electronic Service System (ACCESS). ACCESS is available to registered users at http://access.trade.gov and in the Central Records Unit, Room B8024 of the main Department of Commerce building. In addition, a complete version of the Issues and Decision Memorandum can be accessed directly on the Internet at http://trade.gov/enforcement/frn/index.html. The signed Issues and Decision Memorandum and electronic versions of the Issues and Decision Memorandum are identical in content.

¹ DuPont Teijin Films, Inc., Mitsubishi Polyester Film, Inc. and SKC, Inc. (collectively, Petitioners).

² See Memorandum from Christian Marsh, Deputy Assistant Secretary for Antidumping and Countervailing Duty Operations, to Paul Piquado, Assistant Secretary for Enforcement and Compliance, “Issues and Decision Memorandum for the Final Results of Countervailing Duty Administrative Review: Polyethylene Terephthalate Film, Sheet, and Strip from India; 2013,” dated concurrently with this notice and herein incorporated by reference (Issues and Decision Memorandum).

Changes Since the Preliminary Results

The Department published the preliminary results of this administrative review of PET film from India on August 3, 2016.³ Based on the comments received from Petitioners, in these final results, we corrected a ministerial error made in the context of our analysis of the Export Promotion Capital Goods Scheme (EPCGS).⁴

³ See Polyethylene Terephthalate Film, Sheet and Strip From India: Preliminary Results And Partial Rescission of Countervailing Duty Administrative Review; 2014, 81 FR 51186 (August 3, 2016) (Preliminary Results 2014).

⁴ For a discussion of these issues, see the Issues and Decision Memorandum, and Memorandum to the File from Elfi Blum, International Trade Compliance Analyst, titled “Final Results of 2014 Countervailing Duty Administrative Review: Polyethylene Terephthalate Film, Sheet, and Strip from India—Jindal Polyfilms Limited,” each dated concurrently with these final results.

Methodology

The Department conducted this review in accordance with section 751(a)(1)(A) of the Tariff Act of 1930, as amended (the Act). For each of the subsidy programs found countervailable, we find that there is a subsidy, i.e., a government-provided financial contribution that gives rise to a benefit to the recipient, and that the subsidy is specific.⁵ For a description of the methodology underlying all of the Department's conclusions, see the Issues and Decision Memorandum.

⁵ See sections 771(5)(B) and (D) of the Act regarding financial contribution; section 771(5)(E) of the Act regarding benefit; and, section 771(5A) of the Act regarding specificity.

Final Results of Administrative Review

In accordance with section 777A(e)(1) of the Act and 19 CFR 351.221(b)(5), we determine the total estimated net countervailable subsidy rates for the period January 1, 2014, through December 31, 2014 to be:

Manufacturer/exporter | Subsidy rate (percent ad valorem)
Jindal Poly Films of India Limited | 5.52
SRF Limited | 2.16

Assessment and Cash Deposit Requirements

In accordance with 19 CFR 351.212(b)(2), the Department intends to issue appropriate instructions to U.S. Customs and Border Protection (CBP) 15 days after publication of the final results of this review. The Department will instruct CBP to liquidate shipments of subject merchandise produced and/or exported by the companies listed above, entered or withdrawn from warehouse, for consumption from January 1, 2014, through December 31, 2014, at the percent rates, as listed above for each of the respective companies, of the entered value.

The Department intends also to instruct CBP to collect cash deposits of estimated countervailing duties, in the amounts shown above for each of the respective companies shown above, on shipments of subject merchandise entered, or withdrawn from warehouse, for consumption on or after the date of publication of the final results of this review. For all non-reviewed firms, we will instruct CBP to continue to collect cash deposits at the most-recent company-specific or all-others rate applicable to the company, as appropriate. These cash deposit requirements, when imposed, shall remain in effect until further notice.

Administrative Protective Order

This notice also serves as a final reminder to parties subject to an administrative protective order (APO) of their responsibility concerning the return or destruction of proprietary information disclosed under APO in accordance with 19 CFR 351.305(a)(3), which continues to govern business proprietary information in this segment of proceeding. Timely written notification of the return/destruction of APO materials or conversion to judicial protective order is hereby requested. Failure to comply with the regulations and terms of an APO is a violation which is subject to sanction.

These final results are issued and published in accordance with sections 751(a)(1) and 777(i)(1) of the Act.

Dated: December 1, 2016.
Paul Piquado,
Assistant Secretary for Enforcement and Compliance.

Appendix I

Issues and Decision Memorandum

I. Summary

II. Scope of the Order

III. Period of Review

IV. Subsidies Valuation Information

A. Allocation Period

B. Attribution of Subsidies

C. Benchmarks Interest Rates

D. Denominator

V. Analysis of Programs

A. Programs Determined To Be Countervailable

B. Programs Determined To Be Not Used or to Provide No Benefit During the POR

VI. Final Results of Review

VII. Analysis of Comments

Comment 1: Whether the Department should calculate a benefit for the Status Holder Incentive Scheme (SHIS) when Jindal did not report any benefits received during the POR.

Comment 2: Whether the Value Added Tax (VAT) and Central Sales Tax (CST) Refunds Under the Industrial Promotion Subsidy (IPS) of the State Government of Maharashtra's (SGOM) Package Scheme of Incentives (PSI) Are Countervailable

Comment 3: Whether the Department should countervail benefits received under the State and Union Territory Sales Tax Incentive Program

Comment 4: Whether the Department erroneously omitted one sub-program in its summation of the Export Promotion Capital Goods Scheme (EPCGS) sub-programs

[FR Doc. 2016-29570 Filed 12-8-16; 8:45 am]

BILLING CODE 3510-DS-P